Title 3—

The President

Proclamation 9497 of September 16, 2016

Constitution Day and Citizenship Day, Constitution Week, 2016

By the President of the United States of America

A Proclamation

Tasked with the awesome responsibility of building a Government to endure for generations to come, a band of dedicated patriots gathered in Philadelphia in 1787, seeking to build a more stable and permanent framework for a nascent democracy. Passionate debates and intense negotiation gave way to lasting compromise, and a document emerged that became the bedrock of America. Signed on September 17, the Constitution of the United States has steered our country through ever-changing times. It guides us as leaders on the world stage and safeguards the fundamental rights of our citizens. And it guarantees that the greatness of our Nation never depends on any one person—it requires the full and active participation of an engaged and vibrant citizenry.

The vision of self-government laid out in our Constitution is dependent on Americans doing the hard and sometimes frustrating—yet always essential—work of citizenship. Being a citizen is a responsibility that challenges each of us to stay informed, to speak out when something is not right or not just, and to come together to shape the course our country will take. Citizenship is a commitment, calling on us to stand up for what we believe in and to exercise our rights to protect the rights of others. The Bill of Rights and other amendments added in the decades that followed have paved the way for progress, and they embody a truth held since our founding: the simple but powerful idea that people who love their country can change it for the better.

America is more than a piece of land—it is an idea, a place where we can contribute our talents, fulfill our ambitions, and be part of something bigger than ourselves. Each year on Citizenship Day, we celebrate our newest citizens who raise their hands and swear a sacred oath to join our American family. The journey they have taken reminds us that immigration is our origin story. For centuries, immigrants have brought diverse beliefs, cultures, languages, and traditions to our country, and they have pledged to uphold the ideals expressed in our founding documents. They come from all around the world, mustering faith that in America, they can build a better life and give their children something more. That is why I was proud to create the White House Task Force on New Americans, which is helping to build welcoming communities around our country and enhance civic, economic, and linguistic integration for immigrants and refugees. Through the Task Force, Federal agencies and local communities are working together to raise awareness about the rights, responsibilities, and opportunities of citizenship—and to give immigrants and refugees the tools they need to succeed.

As a Nation of immigrants, our legacy is rooted in their success. Their contributions help us live up to our founding principles. With pride in our diverse heritage and in our common creed, we affirm our dedication to the values enshrined in our Constitution. We, the people, must forever breathe life into the words of this precious document, and together ensure that its principles endure for generations to come.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2016, as Constitution Day and Citizenship Day, and September 17 through September 23, 2016, as Constitution Week. I encourage Federal, State, and local officials, as well as leaders of civic, social, and educational organizations, to conduct ceremonies and programs that bring together community members to reflect on the importance of active citizenship, recognize the enduring strength of our Constitution, and reaffirm our commitment to the rights and obligations of citizenship in this great Nation.

IN WITNESS WHEREOF, I have hereunto set my hand this sixteenth day of September, in the year of our Lord two thousand sixteen, and of the Independence of the United States of America the two hundred and forty-first.

[FR Doc. 2016-22951

Filed 9-21-16; 8:45 am]

Billing code 3295-F6-P